NATIONAL ARCHIVES AND RECORDS ADMINISTRATION

Proposal for a Redesign of Federal Records Management; Request for Comment.

AGENCY: National Archives and Records Administration (NARA).

ACTION: Notice of availability of document; request for comment.

SUMMARY: NARA is seeking public comment on the Proposal for a Redesign of Federal Records Management. This proposal is part of NARA's series of records management initiatives to examine and redesign, as necessary, its records management policies and procedures. The Proposal is available on the NARA Records Management web page at: http://www.archives.gov/records_management/pdf/rm_redesign.pdf. For a paper copy of the report, contact the person listed in FOR FURTHER INFORMATION CONTACT.

DATES: Comments must be received by September 15, 2002.

ADDRESS: Please send your comments to Susan Cummings (NPOL) by email to susan.cummings@nara.gov or by fax to 301-837-0319 or by mail to NPOL, National Archives at College Park, Room 4100, 8601 Adelphi Rd, College Park, MD 20740-6001.

FOR FURTHER INFORMATION CONTACT: Susan Cummings at 301-837-1636.

SUPPLEMENTARY INFORMATION: The Strategic Plan of the National Archives and Records Administration (NARA) states that NARA will ensure ready access to essential evidence that documents the rights of American citizens, the actions of Federal officials, and the national experience. In support of the NARA Strategic Plan, this Proposal for a Redesign of Federal Records Management lays out a strategy for a redesigned records management program at NARA. The strategy calls for NARA to partner with stakeholders to ensure that:

• Federal agencies can economically and effectively create and manage records necessary to meet business needs,

• Records are kept long enough to protect rights, assure accountability, and document the national experience, and

• Records are destroyed when they are no longer needed and it is practical to do so.

Dated: August 2, 2002.
Nancy Allard,
Federal Register Liaison.

[FR Doc. 02-19909 Filed 8-5-02; 8:45 am]

BILLING CODE 7515-01-P